INTERNATIONAL TRADE COMMISSION

[Investigation No. 332-538]

Advice Concerning Possible Modifications to the U.S. Generalized System of Preferences, 2012 Review: Additions and Competitive Need Limitation Waivers; Institution of Investigation and Scheduling of Hearing

AGENCY: United States International Trade Commission.

ACTION: Notice of institution of investigation and scheduling of public hearing.

SUMMARY: Following receipt of a request on January 8, 2013, from the United States Trade Representative (USTR), the U.S. International Trade Commission (Commission) instituted investigation No. 332-538, Advice Concerning Possible Modifications to the U.S. Generalized System of Preferences, 2012 Review: Additions and Competitive Need Limitation Waivers, for the purpose of providing advice as to the probable economic effect of the addition of certain products to the list of items eligible for duty-free treatment under the U.S. GSP program and providing certain advice regarding the effect of a waiver of the competitive need limitations under the program for certain countries and articles.

DATES: February 11, 2013: Deadline for filing requests to appear at the public hearing.

February 13, 2013: Deadline for filing pre-hearing briefs and statements.

February 27, 2013: Public hearing.

March 4, 2013: Deadline for filing post-hearing briefs and statements.

March 4, 2013: Deadline for filing all other written submissions.

April 8, 2013: Transmittal of Commission report to the United States Trade Representative.

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's electronic docket (EDIS) at http://www.usitc.gov/secretary/edis.htm.

FOR FURTHER INFORMATION CONTACT: Information specific to this investigation may be obtained from Alberto Goetzl, Project Leader, Office of Industries (202-205-3323 or alberto.goetzl@usitc.gov), Katherine Baldwin, Deputy Project Leader, Office of Industries (202-205-3396 or katherine.baldwin@usitc.gov), or Cynthia B. Foreso, Technical Advisor, Office of Industries (202-205-3348 or cynthia.foreso@usitc.gov). For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Web site (http://www.usitc.gov). Persons with mobility impairments who will need special assistance in gaining access to the Commission should contact the Office of the Secretary at 202-205-2000.

Background: In accordance with sections 503(a)(1)(A), 503(e), and 131(a) of the Trade Act of 1974, and pursuant to the authority of the President delegated to the USTR by sections 4(c) and 8(c) and (d) of Executive Order 11846 of March 31, 1975, as amended, and pursuant to section 332(g) of the Tariff Act of 1930, the USTR has requested that the Commission provide advice as to the probable economic effect on U.S. industries producing like or directly competitive articles, on U.S. imports, and on U.S. consumers of the elimination of U.S. import duties on the following articles for all beneficiary developing countries under the GSP program: sweetheart, spray and other roses, fresh cut (HTS 0603.11.00 or 0603.11.0010, 0603.11.0030, 0603.11.0060); vegetables nesi, uncooked or cooked by steaming or boiling in water, frozen, reduced in size or the 3 existing 10-digit lines for broccoli (HTS 0710.80.97 or 0710.80.9722, 0710.80.9724, 0710.80.9726); artichokes, prepared or preserved otherwise than by vinegar or acetic acid, not frozen (HTS 2005.99.80); refined copper, wire, w/maximum cross-sectional dimension of 6 mm or less (HTS 7408.19.0030).

The USTR has also requested, under authority delegated by the President, pursuant to section 332(g) of the Tariff Act of 1930, and in accordance with section 503(d)(1)(A) of the Trade Act of 1974, that the Commission provide advice on whether any industry in the United States is likely to be adversely affected by a waiver of the competitive need limitation specified in section 503(c)(2)(A) of the Trade Act of 1974 for the following countries and HTS subheadings (articles): Indonesia for HTS 0410.00.00 (edible products of animal origin, not elsewhere specified or included); Thailand for HTS 0603.13.00 (orchids: cut flowers and flower buds of a kind suitable for bouquets or for ornamental purposes, fresh, dried, dyed, bleached, impregnated or otherwise prepared); Thailand for HTS 1102.90.25 (rice flour); Thailand for HTS 2106.90.99 (food preparations not elsewhere specified or included, not canned or frozen); Indonesia for HTS 6911.10.37 (porcelain or china (o/than bone china) household table and kitchenware in sets in which aggregate value of arts./US note 6(b) o/$56 n/o $200); Russia for HTS 7202.21.50 (ferrosilicon containing by weight more than 55% but not more than 80% of silicon, nesoi); Georgia for HTS 7202.30.00 (ferrosilicon manganese); Brazil for HTS 7202.99.20 (calcium silicon ferroalloys); India for HTS 7307.21.50 (stainless steel, not cast, flanges for tubes/pipes, not forged or forged and machined, tooled and otherwise processed after forging); India for HTS 7307.91.50 (iron or steel (o/than stainless), not cast, flanges for tubes/pipes, not forged or forged and machined, tooled and processed after forging); Thailand for HTS 7408.29.10 (copper wire, coated or plated with metal); and Thailand for HTS 9506.70.40 (ice skates w/footwear permanently attached).

With respect to the waiver of the competitive need limitation, the USTR also requested that the Commission provide its advice with respect to whether like or directly competitive products were being produced in the United States on January 1, 1995; that the Commission provide its advice as to the probable economic effect on total U.S. imports, as well as on consumers, of the requested waivers; and, with respect to the competitive need limit in section 503(c)(2(A)(i)(I) of the Trade Act of 1974, that the Commission use the dollar value limit of $155,000,000.

As requested by USTR, the Commission will provide its advice by April 8, 2013. The USTR indicated that those sections of the Commission's report and related working papers that contain the Commission's advice will be classified as “confidential,” and that USTR considers the Commission's report to be an inter-agency memorandum that will contain pre-decisional advice and be subject to the deliberative process privilege.

Public Hearing: A public hearing in connection with this investigation will be held at the U.S. International Trade Commission Building, 500 E Street SW., Washington, DC, beginning at 9:30 a.m. on February 27, 2013. Requests to appear at the public hearing should be filed with the Secretary, no later than 5:15 p.m., February 11, 2013, in accordance with the requirements in the “Submissions” section below. All pre-hearing briefs and statements should be filed not later than 5:15 p.m., February 13, 2013; and all post-hearing briefs and statements should be filed not later than 5:15 p.m., March 4, 2013.

Written Submissions: In lieu of or in addition to participating in the hearing, interested parties are invited to file written submissions concerning this investigation. All written submissions should be addressed to the Secretary, and should be received not later than 5:15 p.m., March 4, 2013. All written submissions must conform with the provisions of section 201.8 of the Commission's Rules of Practice and Procedure (19 CFR 201.8). Section 201.8 and the Commission's Handbook on Filing Procedures require that interested parties file documents electronically on or before the filing deadline and submit eight (8) true paper copies by 12:00 p.m. eastern time on the next business day. In the event that confidential treatment of a document is requested, interested parties must file, at the same time as the eight paper copies, at least four (4) additional true paper copies in which the confidential information must be deleted (see the following paragraph for further information regarding confidential business information). Persons with questions regarding electronic filing should contact the Secretary (202-205-2000).

Any submissions that contain confidential business information must also conform with the requirements of section 201.6 of the Commission's Rules of Practice and Procedure (19 CFR 201.6). Section 201.6 of the rules requires that the cover of the document and the individual pages be clearly marked as to whether they are the “confidential” or “non-confidential” version, and that the confidential business information is clearly identified by means of brackets. All written submissions, except for confidential business information, will be made available for inspection by interested parties. The Commission may include in the report it sends to the President and the USTR some or all of the confidential business information it receives in this investigation.

The USTR has asked that the Commission make available a public version of its report shortly after it sends its report to the President and the USTR, with any classified or privileged information deleted. Any confidential business information received in this investigation and used in the preparation of the report will not be published in the public version of the report in such manner as would reveal the operations of the firm supplying the information.

Issued: January 18, 2013.
By order of the Commission.
Lisa R. Barton,
Acting Secretary to the Commission.

[FR Doc. 2013-01389 Filed 1-23-13; 8:45 am]

BILLING CODE 7020-02-P